DEPARTMENT OF EDUCATION

[CFDA No: 84.184P]

Office of Elementary and Secondary Education; Safe and Drug-Free Schools and Communities National Programs—Federal Activities Grants Program—The Challenge Newsletter

AGENCY: Department of Education.

ACTION: Notice Inviting Applications for New Awards for Fiscal Year 2000.

Purpose of the Program: To fund one cooperative agreement for the development and dissemination of The Challenge newsletter to provide information about effective practices to prevent drug use and violent behavior among youth.

Eligible Applicants: Public and private nonprofit organizations and individuals.

Applications available: March 24, 2000.

Deadline for Receipt of Applications: April 24, 2000.

Note: All applications must be received by the Department's Application Control Center by 4:30 p.m. Eastern Time on or before the deadline date. Applications received after that time will not be eligible for funding. Postmarked dates will not be accepted. This requirement takes exception to the Education Department General Administrative Regulations (EDGAR), 34 CFR 75.102. Under the Administrative Procedure Act (5 U.S.C. 553), the Department generally offers interested parties the opportunity to comment on proposed regulations. However, this exception to EDGAR makes procedural changes only and does not establish new substantive policy. Therefore, under 5 U.S.C. 553 (b) (A), the Assistant Secretary for Elementary and Secondary Education has determined that proposed rulemaking is not required. Applications by mail should be sent to: U.S. Department of Education, Application Control Center, Attention: CFDA: 84.184P, Room 3633, ROB#3, 400 Maryland Avenue, SW, Washington, DC 20202-4725. The address for applications delivered by hand is: U.S. Department of Education, Application Control Center, Attention: CFDA: 84.184P, Regional Office Building 3, Room 3633, 7th and D Streets, SW, Washington, DC 20202-4725.

Deadline for Intergovernmental Review: May 23, 2000.

Available Funds: $300,000.

Estimated Size of Award: $300,000.

Estimated Number of Awards: 1.

Note: The Department of Education is not bound by any estimates in this notice.

Project Period: Up to 36 months. Please note that all applicants for multi-year awards are required to provide detailed budget information for the total project period requested. The Department will negotiate at the time of the initial award the funding levels for each year of the cooperative agreement award.

Applicable Regulations: (a) The Education Department General Administrative Regulations (EDGAR) in 34 CFR parts 74, 75, 77, 79, 80, 81, 82, 85, 97, 98, and 99; and (b) The Notice of Final Priority and Selection Criteria for FY 2000 published elsewhere in this issue of the Federal Register.

Absolute Priority: The Assistant Secretary has published elsewhere in this issue of the Federal Register a notice of final priority and selection criteria which establishes an absolute priority for The Challenge newsletter. Under 34 CFR 75.105(c)(3), the Assistant Secretary will fund under this competition only applications that meet the absolute priority.

For Applications or Information Contact: Gail Beaumont, Safe and Drug-Free Schools Program, 400 Maryland Avenue, SW, Washington, DC 20202-6123. Telephone: (202) 260-3954. By FAX: (202) 260-7767. Internet: gail_beaumont@ed.gov.

An individual who uses a TDD may call the Federal Information Relay Service FIRS) at 1-800-877-8339.

Electronic Access to This Document

You may view this document, as well as all other Department of Education documents published in the Federal Register, in text or Adobe Portable Document Format (PDF) on the Internet at either of the following sites:

http://ocfo.ed.gov/fedreg.htm

http://www.ed.gov/news.html

To use the PDF you must have Adobe Acrobat Reader Program with Search, which is available free at either of the previous sites. If you have questions about using the PDF, call the U.S. Government Printing Office (GPO), toll free, at 1-888-293-6498; or in the Washington, DC area at (202) 512-1530.

Note: The official version of this document is the document published in the Federal Register.

Program Authority: 20 U.S.C. 7131.

Dated: March 21, 2000.
Michael Cohen,
Assistant Secretary for Elementary and Secondary Education.

[FR Doc. 00-7301 Filed 3-23-00; 8:45 am]

BILLING CODE 4000-01-U